NATIONAL SCIENCE FOUNDATION

Advisory Committee for Mathematical and Physical Sciences; Notice of Meeting

In accordance with Federal Advisory Committee Act (Pub. L. 92-463, as amended), the National Science Foundation announces the following meeting:

Name: Directorate for Mathematical and Physical Sciences Advisory Committee (66).

Date/Time: April 3, 2008, 8 a.m.-6 p.m.; April 4, 2008, 8 a.m.-3 p.m.

Place: National Science Foundation, 4201 Wilson Boulevard, Arlington, VA 22230, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Update on current status of Directorate, Report of Division of Astronomical Sciences Committee of Visitors, Report of Division of Materials Research Committee of Visitors, Meeting of MPSAC with Divisions within MPS Directorate, Discussion of MPS Long-term Planning Activities.

Summary Minutes: May be obtained from the contact person listed above.

Dated: March 4, 2008.
Susanne E. Bolton,
Committee Management Officer.

[FR Doc. E8-4434 Filed 3-6-08; 8:45 am]

BILLING CODE 7555-01-P